DEPARTMENT OF HEALTH AND HUMAN SERVICES

National Institutes of Health

Center for Scientific Review; Amended Notice of Meeting

Notice is hereby given of a change in the meeting of the Cellular and Molecular Immunology—B Study Section, October 11, 2007, 8:30 a.m. to October 12, 2007, 5 p.m., Residence Inn Bethesda, 7335 Wisconsin Avenue, Bethesda, MD 20814 which was published in the Federal Register on September 21, 2007, 72 FR 54051-54054.

The meeting will be held at the Hilton Hotel/Silver Spring, 8727 Colesville Road, Silver Spring, MD 20910. The meeting dates and times remain the same. The meeting is closed to the public.

Dated: September 27, 2007.
Jennifer Spaeth,
Director, Office of Federal Advisory Committee Policy.

[FR Doc. 07-4919 Filed 10-3-07; 8:45 am]

BILLING CODE 4140-01-M